DEPARTMENT OF THE INTERIOR

Fish and Wildlife Service

Notice of Availability of the Illinois Cave Amphipod (Gammarus acherondytes) Draft Recovery Plan for Review and Comment

AGENCY: Fish and Wildlife Service, Interior.

ACTION: Notice of document availability.

SUMMARY: The U.S. Fish and Wildlife Service (Service) announces availability of the endangered Illinois cave amphipod (Gammarus acherondytes) draft recovery plan for public review and comment. The Illinois cave amphipod is known only to occur in Monroe and St. Clair Counties in southwestern Illinois. The Service solicits review and comments from the public on this draft plan.

DATES: Comments on the draft recovery plan must be received on or before September 4, 2002 to receive consideration by the Service.

ADDRESSES: Persons wishing to review the draft recovery plan may obtain a copy by contacting the Field Supervisor, U.S. Fish and Wildlife Service, Rock Island Ecological Services Field Office, 4469 48th Avenue Court, Rock Island, Illinois 61201 or by accessing the website: http://midwest.fws.gov/endangered.

FOR FURTHER INFORMATION CONTACT: Ms. Jody Gustitus Millar at the above address, or telephone at (309) 793-5800. TTY users may contact Ms. Millar through the Federal Relay Service at (800) 877-8339.

SUPPLEMENTARY INFORMATION:

Background

Restoring an endangered or threatened animal or plant to the point where it is again a secure, self-sustaining member of its ecosystem is a primary goal of the Service's endangered species program. To help guide the recovery effort, the Service is working to prepare recovery plans for most of the listed species native to the United States. Recovery plans describe actions considered necessary for conservation of the species, establish criteria for the recovery levels for reclassification and delisting, and provide estimates of time and costs for implementing the recovery measures needed.

The Endangered Species Act of 1973 (Act), as amended (16 U.S.C. 1531 et seq.), requires the development of recovery plans for listed species unless such a plan would not promote the conservation of a particular species. Section 4(f) of the Act, as amended in 1988, requires that public notice and opportunity for public review and comment be provided during recovery plan development. The Service will consider all information presented during the public comment period prior to approval of each new or revised recovery plan. The Service and other Federal agencies will also take these comments into account in the course of implementing approved recovery plans.

The document submitted for review is the Illinois Cave Amphipod (Gammarus acherondytes) Draft Recovery Plan. The Illinois cave amphipod was listed as endangered by the U.S. Fish and Wildlife Service on September 3, 1998, (63 FR 46900). The principle threat to the existence of the species is degradation of karst terrain habitat through groundwater contamination (resulting from urbanization, agricultural activities, and human and animal waste from residential septic systems and livestock feedlots).

Historically, the Illinois cave amphipod was known to occur in six cave systems in Monroe and St. Clair Counties, Illinois. Its presence has not been confirmed in Madonnaville Cave, Monroe County and it appears to be extirpated from Stemler Cave, St. Clair County. Additional populations have been found within the known range of the species in two additional groundwater systems in Monroe County.

The quality and condition of groundwater in the amphipod's habitats are tied to land use practices within cave recharge areas. Surface activities that have the potential to contribute to the degradation of groundwater and cave habitats are best managed at the individual landowner and community level. The draft plan proposes to develop partnerships with Federal and state agencies, organizations, and private landowners that will provide mechanisms for protecting Illinois cave amphipod populations through voluntary and incentive-driven stewardship efforts.

Public Comments Solicited

The Service requests written comments on the recovery plan described. Comments should be sent to the Field Supervisor, Rock Island Ecological Services Field Office. All comments and materials received by the date specified will be considered prior to approval of the plan. They will also be available for public inspection, by appointment, during normal business hours (see ADDRESSES section).

Authority: The authority for this action is section 4(f) of the Endangered Species Act, 16 U.S.C. 1533(f).

Dated: July 19, 2002.
Charles M. Wooley,
Assistant Regional Director, Ecological Services.

[FR Doc. 02-19627 Filed 8-2-02; 8:45 am]

BILLING CODE 4310-55-P